ENVIRONMENTAL PROTECTION AGENCY

40 CFR Part 300

[EPA-HQ-SFUND-1999-0010-; FRL-9704-3]

National Oil and Hazardous Substances Pollution Contingency Plan; National Priorities List: Partial Deletion of the Eastland Woolen Mill Superfund Site

AGENCY: Environmental Protection Agency.

ACTION: Proposed rule; notice of intent.

SUMMARY: The Environmental Protection Agency (EPA) Region 1 is issuing a Notice of Intent to Delete the following properties at the Eastland Woolen Mill Superfund Site (Site) located in Corinna, Maine, from the National Priorities List (NPL) and requests public comments on this proposed action.

The NPL, promulgated pursuant to section 105 of the Comprehensive Environmental Response, Compensation, and Liability Act (CERCLA) of 1980, as amended, is an appendix of the National Oil and Hazardous Substances Pollution Contingency Plan (NCP). The EPA and the State of Maine, through the Maine Department of Environmental Protection, have determined that all appropriate response actions at these identified parcels under CERCLA, other than and five-year reviews, have been completed. However, this deletion does not preclude future actions under Superfund.

This partial deletion pertains to all Site media (including soil and groundwater).

DATES: Comments must be received by September 4, 2012.

ADDRESSES: Submit your comments, identified by Docket ID no. EPA-HQ-SFUND-1999-0010, by one of the following methods:

• http://www.regulations.gov: Follow on-line instructions for submitting comments.

• Email: hathaway.ed@epa.gov.

• Fax: 1-617-918-0372.

• Mail: Edward Hathaway, U.S. EPA Remedial Project Manager, 5 Post Office Square (OSRR07-1), Boston, MA 02109-3912.

• Hand Delivery: Edward Hathaway, U.S. EPA Remedial Project Manager, 5 Post Office Square (OSRR07-1), Boston, MA 02109-3912. Such deliveries are only accepted during the Docket's normal hours of operation, and special arrangements should be made for deliveries of boxed information.

Instructions: Direct your comments to Docket ID no. EPA-HQ-SFUND-1999-0010. EPA's policy is that all comments received will be included in the public docket without change and may be made available online at http://www.regulations.gov, including any personal information provided, unless the comment includes information claimed to be Confidential Business Information (CBI) or other information whose disclosure is restricted by statute. Do not submit information that you consider to be CBI, or otherwise protected, through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in hard copy. Publicly available docket materials are available either electronically in http://www.regulations.gov or on disk or physical copy at:

EPA Region 1 Record Center, 5 Post Office Square, Boston, MA 02109. Phone: 1-617-918-1440. Hours: Mon-Fri 8 a.m. to 5 p.m.

Stewart Free Library, 8 Levi Stewart Drive, Corinna, ME 04928. Phone: 1-207-278-2454. Hours: Tuesday: 9 a.m.-2 p.m.; Wednesday: 1 p.m.-7 p.m.; Thursday: 1 p.m.-7 p.m.; Friday: 9 a.m.-2 p.m.

FOR FURTHER INFORMATION CONTACT: Edward Hathaway, Remedial Project Manager, U.S. Environmental Protection Agency, Region 1, OSRR07-1, 5 Post Office Square, Boston, MA 02109-3912 (617) 918-1372 email: hathaway.ed@epa.gov.

SUPPLEMENTARY INFORMATION: In the “Rules and Regulations” Section of today's Federal Register, we are publishing a direct final Notice of Partial Deletion for the following properties at the Eastland Woolen Mill Superfund Site without prior Notice of Intent for Partial Deletion because EPA views this as a noncontroversial revision and anticipates no adverse comment.

Properties owned by the Town of Corinna that include properties described in Quitclaim Deed dated August 18, 1997 and recorded in Book C6471, Page 278, also identified as Lot 118 in Tax Map 18 dated 2004 and several additional properties that were part of the former Eastland Woolen Mill complex that were acquired due to a tax foreclosure. The tax foreclosure properties are described in the Penobscot County Registry of Deeds in Condemnation Order dated December 8, 1999 and recorded in Book 7251, Page 47, a portion of the property has been subdivided in accordance with a plan dated October 19, 2004 entitled, “Subdivision Plan for the Town of Corinna of Main Street Subdivision on Main Street, Hill Street & St. Albans Road in Corinna, County of Penobscot, Maine,” recorded in said Registry in Plan File 2004, No. 167 (the “Subdivision Plan”). Specifically subdivision Lots 2, 3, 4, 5, 6, 8, 9, 10, the portion of Subdivision Lot 1 north of the Central Maine Power property and a portion of Lot 54 on Tax Map 18, along with Lot 53 on Tax Map 18 are proposed for deletion. The portions of Main Street and Hill Street within the subdivision are also proposed for deletion. Lot 53 on Tax Map 18 is also recorded in Book 853, Page 391, as a warranty deed dated September 26, 1913 and is known as “Winchester Park”.

Property owned by the State of Maine Department of Conservation identified in Release Deed dated December 5, 2003 Book 9114, Page 194, also identified in Tax Map 18 as Map 15 Lot 10 (which a portion of the State of Maine Department of Conservation recreational trail that runs through the Town of Corinna).

Property owned by the State of Maine Department of Transportation described in a Notice of Layout and Taking dated May 3, 2000 and recorded in the Penobscot County Registry of Deeds in Book 7357, Page 29, and being generally depicted on the Survey Plan Showing Property Subject to Proposed Environmental Covenants for Maine Department of Environmental Protection, Corinna, Penobscot County, Maine which is recorded in the Penobscot County Registry of Deeds as Plan File 2012 No. 20, dated March 29, 2012, but excluding the portion of the Maine Department of Transportation property bounded by Town of Corinna Subdivision Lot 1; the East Branch of the Sebasticook River, Route 7, and Nokomis Road.

Property owned by Central Maine Power identified in indenture dated May 2, 1956 and recorded in the Penobscot County Registry of Deeds in Book 1532, Page 228, and generally depicted as Central Maine Power Company land in the Town of Corinna tax records as Lot 4 on Tax Map 20.

The properties proposed for deletion are shown in Figure 11 of Partial Deletion Technical Memorandum dated June 2012 and will be referred to hereafter as “the properties proposed for deletion”. All Tax Map references are based on the Town of Corinna 2004 Tax Maps and the “Survey Plan Showing Property Subject to Proposed Environmental Covenants for Maine Department of Environmental Protection, Corinna, Penobscot County, Maine” which is recorded in the Penobscot County Registry of Deeds as Plan File 2012 No. 20, dated March 29, 2012.

We have explained our reasons for this partial deletion in the preamble to the direct final Notice of Partial Deletion, and those reasons are incorporated herein. If we receive no adverse comment(s) on this partial deletion action, we will not take further action on this Notice of Intent for Partial Deletion. If we receive adverse comment(s), we will withdraw the direct final Notice of Partial Deletion and it will not take effect. We will, as appropriate, address all public comments in a subsequent final Notice of Partial Deletion based on this Notice of Intent for Partial Deletion. We will not institute a second comment period on this Notice of Intent for Partial Deletion. Any parties interested in commenting must do so at this time.

For additional information, see the direct final Notice of Partial Deletion which is located in the Rules section of this Federal Register.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: July 16, 2012.
Ira W. Leighton,
Acting Regional Administrator, Region 1.

[FR Doc. 2012-18659 Filed 8-1-12; 8:45 am]

BILLING CODE 6560-50-P